DEPARTMENT OF TRANSPORTATION

National Highway Traffic Safety Administration

[Docket No. NHTSA-2025-0004]

Agency Information Collection Activities; Notice and Request for Comment; Reporting of Information and Documents About Potential Defects

AGENCY: National Highway Traffic Safety Administration (NHTSA), Department of Transportation (DOT).

ACTION: Notice and request for comments on an extension without change of a currently approved collection of information.

SUMMARY: In compliance with the Paperwork Reduction Act of 1995 (PRA), this notice announces that the Information Collection Request (ICR) summarized below will be submitted to the Office of Management and Budget (OMB) for review and approval. The ICR describes the nature of the information collection and its expected burden. This is an extension without change of a currently approved information collection on the reporting of information and documents about potential defects, “Reporting of Information And Communications About Potential Defects”.

DATES: Comments must be submitted on or before March 17, 2025.

ADDRESSES: You may submit comments identified by the Docket No. NHTSA-2024-0055 through any of the following methods:

• Electronic submissions: Go to the Federal eRulemaking Portal at https://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays.

Instructions: All submissions must include the agency name and docket number for this notice. Note that all comments received will be posted without change to https://www.regulations.gov, including any personal information provided. Please see the Privacy Act heading below.

Privacy Act: Anyone can search for the electronic form of all comments received into any of our dockets by the name of the individual submitting the comment (or signing the comment if submitted on behalf of an association, business, labor union, etc.). You may review DOT's complete Privacy Act Statement in the Federal Register published on April 11, 2000 (65 FR 19477-78) or you may visit https://www.transportation.gov/privacy.

Docket: For access to the docket to read background documents or comments received, go to https://www.regulations.gov or the street address listed above. Follow the online instructions for accessing the dockets via the internet.

FOR FURTHER INFORMATION CONTACT: For additional information or access to background documents, contact Jeff Quandt, Trends Analysis Division (NEF-108), Room W48-312, National Highway Traffic Safety Administration, 1200 New Jersey Ave., Washington, DC 20590. Telephone (202) 366-5207. Please identify the relevant collection of information by referring to its OMB Control Number.

SUPPLEMENTARY INFORMATION: Under the PRA (44 U.S.C. 3501 et seq.), a Federal agency must receive approval from the Office of Management and Budget (OMB) before it collects certain information from the public, and a person is not required to respond to a collection of information by a Federal agency unless the collection displays a valid OMB control number. In compliance with these requirements, this notice announces that the following information collection request will be submitted to OMB.

Title: Reporting of Information and Documents About Potential Defects.

OMB Control Number: 2127-0616.

Type of Request: Extension without change of a currently approved information collection.

Type of Review Requested: Regular.

Length of Approval Requested: 3 years from the date of approval.

Summary of the Collection of Information: This notice requests comment on NHTSA's intention to seek approval from OMB to extend without change a currently approved collection of information, OMB No. 2127-0616, covering requirements in 49 CFR 579, “Reporting of Information and Communications about Potential Defects”. Part 579 implements, and addresses with more specificity, requirements from the Transportation Recall Enhancement Accountability and Documentation (TREAD) Act (Pub. L. 106-414), which was enacted on November 1, 2000, and is codified at 49 U.S.C. 30166.

The purpose of part 579 is to enhance motor vehicle safety by specifying information and documents that manufacturers of motor vehicles and motor vehicle equipment must provide to NHTSA concerning possible safety-related defects and non-compliances in their products, including the reporting of safety recalls and other safety campaigns the manufacturers conduct outside the United States. Under part 579, there are three categories of reporting requirements: (1) Requirements at § 579.5 to submit notices, bulletins, customer satisfaction campaigns, consumer advisories, and other communications (found in subpart A of part 579); (2) requirements at § 579.11 to submit information related to safety recalls and other safety campaigns in the foreign countries (found in Subpart B of part 579); and (3) requirements at §§ 579.21-28 to submit Early Warning Information (found in subpart C of part 579). The Early Warning Reporting (EWR) requirements (U.S.C. 30166(m); 49 CFR part 579, subpart C) specify that manufacturers of motor vehicles and motor vehicle equipment must submit to NHTSA information periodically or upon NHTSA's request, that includes claims or notices for incidents involving death or injury; numbers of property damage claims, consumer complaints, warranty claims, and field reports; copies of field reports; and other information that may assist NHTSA in identifying potential safety-related defects. The intent of this information collection is to provide early warning of such potential safety-related defects to NHTSA.

Description of the Need for the Information and Proposed Use of the Information: The information required under 49 U.S.C. 30166 and 49 CFR part 579 is used by NHTSA to promptly identify potential safety-related defects in motor vehicles and motor vehicle equipment in the United States. When a trend in incidents arising from a potentially safety-related defect is discovered, NHTSA relies on this information, along with other agency data, to determine whether to open a defect investigation.

60-Day Notice

A Federal Register notice with a 60-day comment period soliciting public comments on the following information collection was published on September 20, 2024 (89 FR 77228). Three commenters submitted comments in response to the 60-day notice.1 2 All three commenters expressed support for the benefits of the Agency's part 579 information collection. None of the comments concerned the burden analysis contained in the notice. Two commenters identified concerns with the effectiveness of the information collection for incidents involving semitrailer underride collisions and provided recommendations for improvements.

¹ Multiple submissions with attachments from one of the commenters resulted in higher counts for Public Comments at federalregister.gov (47) and for Document Comments (5) at regulations.gov, see https://www.federalregister.gov/documents/2024/09/20/2024-21509/agency-information-collection-activities-notice-and-request-for-comment-reporting-of-information-and and https://www.regulations.gov/document/NHTSA-2024-0055-0001/comment.

² See https://www.regulations.gov/document/NHTSA-2024-0055-0001/comment.

One commenter, Mr. Eric Hein, submitted three comments with a total of forty-five attachments, each of which were marked as separate comments.³ Mr. Hein expressed support for the Agency's part 579 information collection but used information about side underride collisions into semitrailers “as an example of how to improve the information collection about potential safety defects.” He listed five purported issues that, if addressed, could “enhance the quality, utility, and clarity of the information to be collected” by the Agency: (1) missing Early Warning Reporting (EWR) death and injury incident reports; (2) a lapse in EWR reporting from one trailer manufacturer; (3) excessive time lag in EWR reporting of death and injury incidents; (4) alleged inaction by the Agency in not opening a safety defect investigation of alleged semitrailer underride defect conditions; and (5) questions about actions taken to address Office of Inspector General recommendations about the process for determining when to investigate potential safety defects.

³ See https://www.regulations.gov/comment/NHTSA-2024-0055-0002, https://www.regulations.gov/comment/NHTSA-2024-0055-0003, and https://www.regulations.gov/comment/NHTSA-2024-0055-0004.

Regarding “missing EWR reports,” Mr. Hein alleged that trailer manufacturers failed to submit reports to the Agency regarding seven (7) fatal side underride crashes between semitrailers and passenger vehicles that occurred between 2009 to 2020. He asked the Agency to confirm that these incidents should have been reported and to explain how it “intend[s] to correct these omissions and enforce EWR non-reporting.” As background, the requirements for reporting incidents involving death or injury by manufacturers of 5,000 or more trailers annually are contained in 49 CFR 579.24(b). There are several elements to the reporting requirement. First, reporting is required for “each incident involving one or more deaths or injuries occurring in the United States that is identified in a claim against and received by the manufacturer or in a notice received by the manufacturer which notice alleges or proves that the death or injury was caused by a possible defect in the manufacturer's trailer” as specified in paragraph (b)(1). Second, the requirement is limited to claims and notices received about “all trailers manufactured during a model year covered by the reporting period and the nine model years prior to the earliest model year in the reporting period.” Last, the claim or notice must identify the trailer with the minimal specificity for vehicles as defined in § 579.4.

The Agency reviewed the information provided by Mr. Hein about the 7 allegedly missing EWR reports and other public information about the incidents and found that 4 of the involved trailers were well over the reporting age limit on the dates of the incidents. A fifth incident, which was the subject of an investigation by the Agency's Special Crash Investigations program, did not contain any evidence that a claim or notice was ever sent to the trailer manufacturer. A sixth incident, which occurred over 15 years ago, did not contain sufficient information about the product to determine whether it should have been reported to the Agency. Our review found that just 1 of the 7 incidents cited by Mr. Hein may meet the requirements for reporting as an EWR death or injury claim or notice. The subject incident is a fatal crash involving a 2012 semitrailer that occurred in 2017 with a lawsuit that includes allegations referencing the absence of side underride guard protection filed in 2019, approximately 27 months after the incident.

The Agency also reviewed 36 additional fatal crash incidents submitted by Mr. Hein as attachments to his comment letter.⁴ This review found that just one-third (12) of the incidents were reported with the minimal specificity required for identifying the subject semitrailers. Of these 12 incidents, 5 involved semitrailers that were beyond the age limit for part 579 reporting on the date of the incident, and a sixth incident involved a semitrailer that was approximately 9 years old when the crash occurred and would likely have been near or beyond the reporting age limit.⁵ None of the remaining 7 incidents included any evidence that any claim or notice was received by the manufacturer.

⁴ These attachments are identified in Mr. Hein's comments as “40 complaint letters of fatal side underride crashes into semitrailers to Office of Defects Investigation (ODI) (Attachments 2-41).” Our review identified 39 such letters (there was no Attachment 37 provided), including 3 that duplicated reports previously reviewed as “Missing Reports,” resulting in 36 new incidents.

⁵ This incident involved a 2009 trailer and a fatal crash occurring on July 2, 2018. Any claim or notice received by the manufacturer after it began production of 2019 trailers would not meet the reporting limit for “nine model years prior to the earliest model year in the reporting period” contained in § 579.24(b).

The second issue raised by Mr. Hein concerned a semitrailer manufacturer that was purportedly not listed in the online Early Warning Reporting-Data Search “even though they from 2020 to 2022 produced an average of 15,480 trailers per year,” and that had allegedly failed to report a fatal side-underride collision that occurred in 2019. The Agency's review found that the company identified by Mr. Hein failed to submit EWR production and aggregate data reports required by § 579.24 for multiple reporting quarters. However, the Agency did not confirm that the fatal crash cited by Mr. Hein should have been reported, as it involved a semitrailer that was greater than 10 years old when the collision occurred, and the Agency is not aware of any record of a claim or notice received by the trailer manufacturer. The lawsuit referenced in Mr. Hein's comment letter was a claim against the manufacturer of the vehicle that struck the trailer, not the trailer manufacturer. We also note that fatal incidents with reportable claims or notices must be reported by all trailer manufacturers regardless of production volume. The requirements for reporting information about incidents involving death for manufacturers of fewer than 5,000 trailers annually are contained in § 579.27(b).

Mr. Hein also questioned the timeliness of manufacturer reporting of death and injury incidents, citing as examples two incidents that were reported nearly three years after the crashes occurred. The reporting requirements for information on incidents involving death or injury are triggered by the manufacturer's receipt of a claim or notice that “alleges or proves that the death or injury was caused by a possible defect in the manufacturer's trailer” and not by the incident date as suggested by Mr. Hein's comments. The current regulation requires incidents involving death or injury to be reported to NHTSA within 60 days of the end of the quarter in which the manufacturer received an initial claim or notice containing such allegations. Any changes in this reporting requirement would require rulemaking and are outside the scope of this request for extension of a currently approved information collection.

Finally, the Agency reviewed Mr. Hein's concerns about the processes used by the Agency for deciding when to open a defect investigation and the resolution of specific recommendations from a 2015 Office of Inspector General audit. As background, Mr. Hein has submitted several petitions to the Agency requesting the investigation of certain semitrailers lacking side underride guards (SUGs) or lacking effective rear underride guards.⁶ He submitted the first petition in September 2021, requesting that the Agency investigate the absence of side underride guards (SUGs) in van-type and box semitrailers as a safety defect (see Defect Petition DP21004).⁷ That petition was denied in July 2022, citing the ongoing evaluation of SUGs as directed by Congress in section 23011 of the Bipartisan Infrastructure Law (BIL) (November 15, 2021).⁸ In August 2022, Mr. Hein petitioned the Agency to investigate semitrailers lacking effective rear underride guard protection (see Defect Petition DP22004).⁹ That petition was denied in June 2024, based on an assessment that the issues raised were “best addressed through [the Agency's] recent rulemaking and the ongoing actions under BIL.” ¹⁰ In July 2024, he petitioned the Agency once more seeking an investigation of semitrailers lacking SUGs (see Defect Petition DP24004).¹¹ The latest petition is currently pending. Given the nature of the concerns cited by Mr. Hein about the processes used by the Agency and the resolution of specific recommendations from a 2015 Office of Inspector General audit, as well as the petition currently pending with the Agency, the Agency considers these concerns to be outside the scope of this request for an extension of a currently approved information collection.¹²

⁶ The petitions request safety defect investigation into “van-type or box semitrailers” due to “a lack of side underride guards” or “a lack of effective Rear Impact Guards.”

⁷ See DP21-004 opening resume: https://static.nhtsa.gov/odi/inv/2021/INOA-DP21004-7938.PDF.

⁸ See Denial of Motor Vehicle Defect Petition, DP21-004, 87 FR 39899, 39901 (July 5, 2022).

⁹ See DP22-004 opening resume: https://static.nhtsa.gov/odi/inv/2022/INOA-DP22004-7626.PDF.

¹⁰ See Denial of Motor Vehicle Defect Petition, DP22-004, 89 FR 53476, 53477 (June 26, 2024).

¹¹ See DP24-004 opening resume: https://static.nhtsa.gov/odi/inv/2024/INOA-DP24004-16266.pdf.

¹² We note that the OIG audit recommendations referenced in his comments have all been closed, effective October 17, 2024. See U.S. Department of Transportation, Office of Inspection General, Audit Reports, https://www.oig.dot.gov/library-item/39520.

In summary, our review of 8 incidents of alleged non-reporting of fatal incidents submitted in Mr. Hein's letter identified one incident that does not appear to have been reported as required. We also confirmed the lapse in certain reporting by one manufacturer that was identified by Mr. Hein. The Agency works to resolve isolated errors or omissions in reporting from a manufacturer by correcting the reporting issue, reviewing the reasons for the error, and reviewing the manufacturer's corrective actions for avoiding similar errors in future reporting. If we detect a pattern of reporting non-compliance or other serious violations, we may open a formal investigation of the manufacturer's compliance with part 579 reporting. Manufacturers may be assessed penalties for non-compliance with reporting requirements depending on the severity of the violations. We appreciate the opportunity to review the information provided by Mr. Hein about suspected non-reporting of incidents involving death or injury and welcome such questions from anyone who has specific information indicating potential part 579 non-compliance.

The second commenter, Mrs. Marianne Karth, expressed concerns with the requirements for information collection about incidents involving “passenger vehicle and pedestrian/cyclist underride/override in crashes with large trucks (truck-tractors, tractor-trailers, and single unit trucks).” She recommended updating the EWR information collection to “include detailed information” about such incidents, potentially including a specific code for reporting underride incidents for the affected reporting categories. This recommendation would require amending the current EWR reporting regulation and is outside the scope of this request for an extension of a currently approved information collection.

The third and final comments were submitted by Mr. Thomas J. Karol on behalf of the National Association of Mutual Insurance Companies (NAMIC). Mr. Karol expressed strong support for the part 579 information collection requirements and suggested that the Agency seek input from representatives of the insurance industry to improve the “performance and efficacy of the proposed reporting.”

Affected Public: Manufacturers of motor vehicles and motor vehicle equipment.

Estimated Number of Respondents: NHTSA receives part 579 submissions from approximately 273 manufacturers per year. We estimate that there will be a total of 273 respondents per year to this extension of the currently approved OMB No. 2127-0616, instead of the previously estimated 337 respondents per year. The manufacturer estimate is an update to the 60-day notice estimation of 297 respondents and corrects an error in overcounting manufacturers in the past.

Estimated Total Annual Burden Hours and Cost: NHTSA is updating the estimates to better align with the current volume of submissions. NHTSA now estimates the total annual burden hours associated with this collection to be 51,327 hours based on analysis of EWR reporting data from the 2021 through 2023 reporting years. This is a change from the estimated 54,088 annual burden hours in the 60-day notice because of the correction to the estimated number of respondents described above. When this approved information collection was last renewed in April 2022, NHTSA estimated the annual burden associated with this collection to be 53,810 burden hours.

NHTSA estimated the burdens associated with this collection by calculating the burden associated with submitting information under each subpart of part 579. In addition to these burdens, NHTSA also estimates that manufacturers will incur computer maintenance burden hours, which are estimated on a per-manufacturer basis. There were no burden-related comments, in turn, burden-related changes are not in response to comments, but rather an overall estimation update.

Requirements Under Part 579,Subpart A

The first component of this collection request covers the requirements found in part 579 subpart A, § 579.5, Notices, bulletins, customer satisfaction campaigns, consumer advisories, and other communications. Section 579.5 requires manufacturers to furnish (1) a copy of all notices, bulletins, and other communications sent to more than one manufacturer, distributor, dealer, lessor, lessee, owner, or purchaser, in the United States, regarding any defect in its vehicles or items of equipment (including any failure of malfunction beyond normal deterioration in use, or any failure of performance, or any flaw or unintended deviation from design specifications), whether or not such defect is safety-related and (2) a copy of each communication relating to a customer satisfaction campaign, consumer advisory, recall, or other safety activity involving the repair or replacement of motor vehicles or equipment, that the manufacturer issued to, or made available to, more than one dealer, distributor, lessor, lessee, another manufacturer, owner, or purchaser, in the United States. Manufacturers are required to submit these documents monthly. Section 579.5 does not require manufacturers to create these documents. Instead, only copies of these documents must be submitted to NHTSA, and manufacturers must index these communications and email them to NHTSA within 5 working days after the end of the month in which they were issued. Therefore, the burden hours are only those associated with collecting the documents and submitting copies to NHTSA.

NHTSA estimates that it receives approximately 17,615 notices a year. We estimate that it takes about 5 minutes to collect, index, and submit each notice to NHTSA. Therefore, we estimate that it takes 1,468 hours for manufacturers to submit notices as required under § 579.5 (17,615 notices × 5 minutes = 88,075 minutes or 1,468 hours) annually.

To calculate the labor cost associated with submitting § 579.5 notices, bulletins, customer satisfaction campaigns, consumer advisories, and other communications that are sent to more than one dealer or owner, NHTSA looked at wage estimates for the type of personnel submitting the documents. While some manufacturers employ clerical staff to collect and submit the documents, others use technical computer support staff to complete the task. Because we do not know what percent of the work is completed by clerical or technical computer support staff, NHTSA estimates the total labor costs associated with these burden hours by looking at the average wage for the higher-paid technical computer support staff. The Bureau of Labor Statistics (BLS) estimates that the average hourly wage for Computer Support Specialists (BLS Occupation code 15-1230) in the Motor Vehicle Manufacturing Industry is $37.62.¹³ The Bureau of Labor Statistics estimated that private industry workers' wages represented 70.4 percent of employer costs for employee compensation in December 2023 (ECEC adjustment).¹⁴ Based on the BLS average hourly wage and ECEC adjustment factor, NHTSA estimates the hourly labor costs to be $53.44 for Computer Support Specialists ($37.62 ÷ 0.704 = $53.44). The incremental labor cost per submission is estimated to be $4.45 ($53.44 per hour × 5 minutes). NHTSA estimates the total labor cost associated with the 1,468 burden hours for § 579.5 submissions to be $78,387 ($4.45 × 17,615 submissions). Table 1 provides a summary of the burden estimates using the average annual submission count for monthly reports submitted pursuant to § 579.5 and the estimated burden hours and labor costs associated with those submissions. The average number of annual submissions under § 579.5 decreased by approximately 29 percent from the currently approved information collection, dropping from 24,884 to 17,615 manufacturer communication submissions. The incremental cost per submission rose from $3.73 to $4.45, a 19 percent increase. The annual burden hours dropped from 2,074 to 1,468, matching the 29 percent drop in submissions. The annual labor costs dropped from $92,817 to $78,387, a 16 percent decrease with the reduction in submissions partially offset by the increased labor cost per submission.

¹³ May 2023 National Industry-Specific Wage Estimates—Motor Vehicle Manufacturing, U.S. Bureau of Labor Statistics, Computer Support Analyst (Code 15-1230), $37.62, https://www.bls.gov/oes/2023/may/naics4_336100.htm#15-0000, divided by 70.4 percent for total employer costs for employee compensation, https://www.bls.gov/news.release/archives/ecec_03132024.pdf. Last Accessed August 12, 2024.

¹⁴ March 2024 News Release—Employer Costs for Employee Compensation—December 2023, U.S. Bureau of Labor Statistics. Last Accessed August 12, 2024.

Table 1—Annual Burden Estimate for § 579.5 Submissions
Average annual § 579.5 submissions | Estimated burden per submission (minutes) | Average hourly labor cost | Labor cost per submission | Total annual burden hours | Total annual labor costs
17,615 | 5 | $53.44 | $4.45 | 1,468 | $78,386.75 or $78,387.

Requirements Under Part 579,Subpart B (Foreign Reporting)

The second component of this information collection request covers the requirements found in part 579 subpart B, “Reporting of Safety Recalls and Other Safety Campaigns in Foreign Countries.” Pursuant to § 579.11, whenever a manufacturer determines to conduct a safety recall or other safety campaign in a foreign country, or whenever a foreign government has determined that a safety recall or other safety campaign must be conducted, covering a motor vehicle, item of motor vehicle equipment, or tire that is identical or substantially similar to a vehicle, item of equipment, or tire sold or offered for sale in the United States, the manufacturer must report to NHTSA not later than 5 working days after the manufacturer makes such determination or receives written notification of the foreign government's determination. Section 579.11(e) also requires each manufacturer of motor vehicles to submit, not later than November 1 of each year, a document that identifies foreign products and their domestic counterparts.

To provide the information required for foreign safety campaigns, manufacturers must (1) determine whether vehicles or equipment that are covered by a foreign safety recall or other safety campaign are identical or substantially similar to vehicles or equipment sold in the United States, (2) prepare and submit reports of these campaigns to the agency, and (3) where a determination or notice has been made in a language other than English, translate the determination or notice into English before transmitting it to the agency.

NHTSA estimates that there is no burden associated with determining whether an individual safety recall covers a foreign motor vehicle or item of motor vehicle equipment that is identical or substantially similar to those sold in the United States because manufacturers can simply consult the list that they are required to submit each year. Therefore, the only burden associated with determining whether a foreign safety recall or other safety campaign is required to be reported to NHTSA is the burden associated with creating the annual list. NHTSA continues to estimate that it takes approximately 9 hours per manufacturer to develop and submit the list. The 9 hours are comprised of 8 attorney hours and 1 hour for IT work. NHTSA receives these lists from 99 manufacturers, on average, resulting in 891 burden hours (99 vehicle manufacturers × 8 hours for attorney support = 792 hours) + (99 vehicle manufacturers × 1 hour for IT support = 99 hours).

NHTSA estimates that preparing and submitting each foreign defect report (foreign recall campaign) requires 1 hour of clerical staff and that translation of determinations into English requires 2 hours of technical staff (note: This assumes that all foreign campaign reports require translation, which is unlikely). Between 2021 and 2023 NHTSA received a yearly average of 262 foreign campaign reports. NHTSA estimates that in each of the next three years, NHTSA will receive, on average, 262 foreign recall reports. NHTSA estimates that each report will take 3 hours (1 hour to prepare by a clerical employee and 2 hours for translation). Therefore, NHTSA estimates that the burden hours associated with submitting these reports will be 786 hours (3 hours per report × 262 reports).

Therefore, NHTSA estimates the total annual burden hours for reporting foreign campaigns and substantially similar vehicles is 1,677 hours (891 hours for submitting annual lists + 786 hours for submitting foreign recall and safety campaign reports). This is an increase of 87 burden hours from our previous estimate (1,677 hours for the current estimate −1,590 hours for the previous estimate). Table 2 provides a summary of the estimated burden hours for part 579 subpart B submissions.

Table 2—Annual Burden Hour Estimates for Foreign Reporting
Submission type | Annual number of submissions | Burden hours per report | Total annual burden hours
Foreign Campaign Report | 262 | 1 hour clerical + 2 hours translation = 3 hours | 786
Annual List | 99 | 8 hours attorney + 1 hour IT = 9 hours | 891
Total |  |  | 1,677

To calculate the labor cost associated with part 579 foreign reporting submissions, NHTSA looked at wage estimates for the type of personnel submitting the documents. As stated above, NHTSA estimates that submitting annual lists under § 579.11(e) will involve 8 hours of attorney time and 1 hour of IT work. The average hourly wage for Lawyers (BLS Occupation code 23-1000) in the Motor Vehicle Manufacturing Industry is $112.21.¹⁵ After applying the 70.4 percent ECEC adjustment, NHTSA estimates the hourly labor costs for manufacturers to be $159.39 for Lawyers. The ECEC adjusted hourly cost for Computer Support Specialists (BLS Occupation code 15-1230) in the Motor Vehicle Manufacturing Industry is $53.44 as reviewed in the discussion of table 1 data in the subpart A reporting burden analysis. NHTSA estimates the incremental labor cost associated with submitting each annual list to be $1,328.56 or $1,329 ($159.39 per hour × 8 attorney hours + $53.44 per hour × 1 IT hour), resulting in an estimated annual labor cost of $131,527 for submitting all 99 annual lists each year.

¹⁵ May 2023 National Industry-Specific Wage Estimates,—Motor Vehicle Manufacturing, U.S. Bureau of Labor Statistics, Lawyers (Code 23-1011), $112.21, https://www.bls.gov/oes/2023/may/naics4_336100.htm#23-0000, divided by 70.4 percent for total employer costs for employee compensation, https://www.bls.gov/news.release/archives/ecec_03132024.pdf. Last Accessed August 12, 2024.

NHTSA estimates that submitting each foreign recall or safety campaign report involves 1 hour of clerical work and 2 hours of translation work. The average hourly wage for Office Clerks (BLS Occupation code 43-9061) in the Motor Vehicle Manufacturing Industry is $26.65 ¹⁶ and the average hourly wage for Interpreters and Translators (BLS Occupation code 27-3091) is $30.33.¹⁷ Therefore, NHTSA estimates the ECEC adjusted hourly labor costs to be $37.86 for Office Clerks and $43.08 for Interpreters and Translators. NHTSA estimates the total labor cost associated with submitting one foreign recall or safety campaign report to be $124.02 or $124 ($37.86 per hour × 1 Clerical hour + $43.08 per hour × 2 Translator hours) and $32,493.24 or $32,493 for all 262 foreign recall or safety campaign reports NHTSA estimates will be submitted annually.

¹⁶ May 2023 National Industry-Specific Wage Estimates—Motor Vehicle Manufacturing, U.S. Bureau of Labor Statistics, Office Clerks (Code 43-9061), $26.65, https://www.bls.gov/oes/2023/may/naics4_336100.htm#43-0000, divided by 70.4 percent for total employer costs for employee compensation, https://www.bls.gov/news.release/archives/ecec_03132024.pdf. Last Accessed August 12, 2024.

¹⁷ May 2023 National Occupational Employment and Wage Estimates United States, U.S. Bureau of Labor Statistics, Interpreters and Translators (Code 27-3091), $30.33, https://www.bls.gov/oes/2023/may/oes273091.htm, divided by 70.4 percent for total employer costs for employee compensation, https://www.bls.gov/news.release/archives/ecec_03132024.pdf. Last Accessed August 12, 2024.

Table 3 provides a summary of the labor costs associated with the foreign reporting requirements in part 579, subpart B. NHTSA estimates that the total labor costs associated with the annual list requirement and the requirement to report foreign recalls and safety campaigns are $164,020.68 or $164,021 ($131,527.44 + $32,493.24).

Table 3—Annual Labor Cost Estimates for Foreign Reporting
Submission type and labor category | Hours per submission | Hourly labor cost | Labor cost per submission | Number of submissions | Total annual labor cost
Annual List-Lawyer | 8 | $159.39 | $1,275.12 | 99 | $126,236.88.
Annual List-Computer Specialist | 1 | 53.44 | 53.44 | 99 | $5,290.56.
Totals for Annual List | 9 |  | 1,328.56 |  | $131,527.44.
Foreign Campaign Report-Clerical | 1 | 37.86 | 37.86 | 262 | $9,919.32.
Foreign Campaign Report-Translator | 2 | 43.08 | 86.16 | 262 | $22,573.92.
Totals for Foreign Campaign Report | 3 |  | 124.02 |  | $32,493.24
Total Labor Costs for Part 579 Subpart B Requirements | $164,020.68 or $164,021.

Requirements Under Part 579, Subpart C, Reporting of Early Warning Information

The third component of this information collection covers the requirements found in part 579 subpart C, “Reporting of Early Warning Information.” Besides production information, there are five major categories requiring reporting of incidents or claims in subpart C, with the specific requirements and applicability of those categories varying by vehicle and equipment type and, in some circumstances, manufacturer volume. Sections 579.21 through 27 require manufacturers to submit the following:

(1) Production information; (2) reports on incidents involving death or injury in the United States that are identified in claims or notices alleging that the death or injury was caused by a possible defect; (3) reports on incidents identified in a claim against a manufacturer that involves one or more deaths in a foreign country and involve a vehicle or item of equipment that is identical or substantially similar to a vehicle or item of equipment that is offered for sale in the United States; (4) separate reports on the number of property damage claims, consumer complaints, warranty claims, and field reports that involve a specified system or event; (5) copies of field reports; and, for manufacturers of tires, (6) a list of common green tires (applicable to only tire manufacturers). Section 579.28(l) allows NHTSA to request additional information to help identify a defect related to motor vehicle safety. The regulation specifies the time frame for reporting for each category. Foreign recalls of substantially similar vehicles and manufacturer communications are required to be submitted monthly, substantially similar vehicle listings are required annually, and all other report types are required to be submitted every quarter.

Quarterly Reporting

Manufacturers are required to report specific information to NHTSA every quarter. Manufacturers are required to submit production information,¹⁸ non-dealer field reports, aggregate submissions, and death and injury submissions every quarter. Estimates of the burden hours and reporting costs are based on:

¹⁸ Low volume and equipment manufacturers are not required to submit production information.

• The number of manufacturers reporting;

• The frequency of required reports;

• The number of hours required per report; and

• The cost of personnel to report.

The number of hours for reporting ranges from 1 hour for trailer, child restraint, low volume vehicle, and equipment manufacturers to 8 hours for light vehicle manufacturers (table 4). Quarterly reporting burden hours are calculated by multiplying hours used to report for a given category by the number of manufacturers for the category and by the four times per-year quarterly reporting. Using these methods and the average number of manufacturers who report annually, we estimate the annual burden hours for quarterly reporting of production information at 3,664 hours as detailed below in table 4.

NHTSA assumes that the hourly wage rate for each quarterly report is split evenly between technical and clerical personnel and a weighted hourly rate is developed from this assumption. Therefore, using the BLS total hourly compensation rates discussed above of $53.44 for a Computer Support Specialist and $37.86 for an Office Clerk, the weighted hourly rate is $45.65 (Technical Mean Hourly Wage of $53.44 × 0.5 + Clerical Mean Hourly Wage of $37.86 × 0.5). The estimated reporting costs are calculated as follows:

(M × Tp × $45.65) = Quarterly cost of reporting × 4 = Annual cost of reporting *

*M = Manufacturers reporting data in the category; Tp = Reporting time for the category; $45.65 = Reporting labor cost compensation rate; 4 = Quarterly reports per year

For example, the estimated annual reporting cost for light vehicles is $59,892.80 (41 manufacturers × 8 hours × $45.65 compensation rate × 4 quarters), and the total annual labor costs associated with quarterly reporting are estimated to be $167,262. Table 4 includes the estimated burden hours and reporting costs for production information, non-dealer field reports, aggregate submissions, and death and injury submissions, as well as the quarterly and annual labor costs associated with reporting.

Table 4—Estimated Manufacturer Annual Burden Hours and Labor Costs for Quarterly Reporting
Vehicle/equipment category | Average number of manufacturers | Quarterly hours to report per manufacturer | Blended hourly comp. rate | Quarterly labor costs per manufacturer | Annual burden hours for reporting | Annual labor costs
Light Vehicles | 41 | 8 | $45.65 | $365.20 | 1,312 | $59,892.80.
Bus, Emergency, and Medium-Heavy Vehicles | 54 | 5 | 45.65 | 228.25 | 1,080 | $49,302.00.
Motorcycles | 16 | 2 | 45.65 | 91.30 | 128 | $5,843.20.
Trailers | 91 | 1 | 45.65 | 45.65 | 364 | $16,616.60.
Child Restraints | 35 | 1 | 45.65 | 45.65 | 140 | $6,391.00.
Tires | 31 | 5 | 45.65 | 228.25 | 620 | $28,303.00.
Low Volume & Equipment ¹⁹ | 5 | 1 | 45.65 | 45.65 | 20 | $913.00.
Totals | 273 |  |  |  | 3,664 | $167,261.60 or $167,262.

Early Warning Reporting Field Data Submissions

¹⁹ Reporting requirements for low volume vehicle and equipment manufacturers are limited to reporting fatal incidents in the United States and foreign countries and responding to inquiries about those incidents, see § 579.27 and § 579.28(l). Table 4 manufacturer counts are calculated by dividing the number of total manufacturer reporting quarters (1 manufacturer reporting in 1 quarter = 1 manufacturer reporting quarter) by 4 quarters to show the number of equivalent full manufacturer reporting years (4 manufacturer reporting quarters).

Table 5 provides an average annual submission count for each category submitted per the requirements of 49 CFR part 579, subpart C: reports on incidents identified in claims or notices involving death or injury in the United States; reports on incidents involving one or more deaths in a foreign country identified in claims involving a vehicle or item of equipment that is identical or substantially similar to a vehicle or item of equipment that is offered for sale in the United States; separate reports on the number of property damage claims, consumer complaints, warranty claims, and field reports that involve a specified system or event; copies of field reports; and, for manufacturers of tires; a list of common green tires; and additional follow-up information per 579.28(l) related to injury and fatality claims. Each reporting category has specific requirements and types of reports that need to be submitted and we state “N/A” where there is no requirement for that reporting category.

Table 5—Annual Average of EWR Submissions by Manufacturers
[2021—2023]
Category of claims | Light vehicles § 579.21 | Bus, emergency, heavy, & medium vehicles § 579.22 | Motorcycles § 579.23 | Trailers § 579.24 | Child restraints § 579.25 | Tires § 579.26 | Low volume vehicles & equipment § 579.27 | Annual average totals
Incidents Involving Injury or Fatality in U.S | 6,338 | 223 | 109 | 44 | 133 | 35 | 10 | 6,892
Incidents Involving Fatality in Foreign Country | 38 | 0 | 2 | 1 | 0 | 0 | 0 | 41
Reports on Number of Claims Involving Specific Systems or Event | 7,985 | 831 | 23 | 55 | NA | 298 | NA | 9,192
Mfr. Field Reports | 83,360 | 18,650 | 1,456 | 81 | 2,859 | NA | NA | 106,406
Common Green Tire Reporting | NA | NA | NA | NA | NA | 99 | NA | 99
Average Number of Follow-Up Sequences per 579.28(l) | 1,425 | 91 | 67 | 14 | 64 | 44 | 14 | 1,719
Totals | 99,146 | 19.795 | 1,657 | 195 | 3,056 | 476 | 24 | 124,349

The submission totals summarized in Table 5 represent a 10 percent increase from the currently approved information collection with two reporting categories responsible for all of the increase. Submission totals increased for manufacturer field reports and follow-up sequence inquiries conducted per § 579.28(l) but saw a net decrease of 34 percent for the other four categories combined. Average annual injury and fatality claims in the United States dropped from 11,887 to 6,892 claims per year, a 42 percent decrease; foreign death claims dropped from 330 to 41 per year, an 88 percent decrease; claims involving specific systems or events dropped from 12,212 to 9,192, a 25 percent decrease; and common green tire reports dropped from 112 to 99 per year, a 12 percent decrease. Manufacturer field reports, which accounted for the majority of submissions in both the current and prior approved information collection requests, rose from 88,409 to 106,406 per year, a 20 percent increase.²⁰ Death and injury follow-up sequence inquiries conducted per § 579.28(l) saw a much larger change, rising from 190 to 1,719 average incident inquiries per year, an increase of 805 percent. The net effect of these changes was an increase from 113,140 to 124,349 submissions per year on average.

²⁰ Manufacturer field reports rose from 78 percent of EWR submissions in the currently approved information collection to 86 percent of submissions in the current information collection request.

The agency estimates that an average of 5 minutes is required for a manufacturer to process each report, except for foreign death claims and follow-up responses. We estimate foreign death claims and follow-up responses per § 579.28(l) require an average of 15 minutes to process. Multiplying the total average number of minutes by the number of submissions NHTSA receives in each reporting category yields the burden hour estimates found below in Table 6. Our previous estimates of EWR associated submission burden hours totaled 9,515 hours, and we now update that total to 10,655 burden hours, a 12 percent increase, associated with the above-noted claim categories.

Table 6—Annual Manufacturer Burden Hour Estimates for EWR Submissions
Category of claims | Annual average of EWR Submissions | Average time to process each report | Estimated annual burden hours
Incidents Involving Injury or Fatality in U.S | 6,892 | 5 | 574
Incidents Involving Fatality in Foreign Country | 41 | 15 | 10
Reports on Number of Claims Involving Specific System or Event | 9,192 | 5 | 766
Mfr. Field Reports | 106,406 | 5 | 8,867
Common Green Tire Reporting | 99 | 5 | 8
Average Number of Follow-Up Sequences per 579.28(l) | 1,719 | 15 | 430
Totals | 124,349 |  | 10,655

We have also calculated hourly labor costs for each claim type with an incremental reporting burden based on time to process and labor costs for employee positions required for processing each submission. Table 7 shows the employee positions required for processing submissions for each claim type, the time required for each position to process each submission, and the weighted hourly rates for each claim type. The employee positions analyzed in table 7 include three that have been introduced in prior sections of this information collection request: Lawyers (BLS Occupation code 23-1000), Computer Support Specialists (BLS Occupation code 15-1230), and Office Clerks (BLS Occupation code 43-9061).²¹ Cost analysis for Computer Support Specialists was provided in the discussion of table 1 data for subpart A labor costs analysis and analyses for Lawyers and Office Clerks were provided in the discussion of table 3 data for subpart B labor cost burden analysis. Labor cost analysis for Engineers (BLS Occupation code 17-2000) is introduced in table 7. The average hourly wage for Engineers in the Motor Vehicle Manufacturing Industry is $52.56.²² After applying the 70.4 percent ECEC adjustment, NHTSA estimates the hourly labor costs for manufacturers to be $74.66 for Engineers. Table 7 shows the weighted hourly rates for each submission claim type.

²¹ Table 7 references Computer Support Specialists as “Technical” and Office Clerks as “Clerical”.

²² May 2023 National Industry-Specific Wage Estimates—Motor Vehicle Manufacturing, U.S. Bureau of Labor Statistics, Engineers (Code 17-2000), $52.56, https://www.bls.gov/oes/2023/may/naics4_336100.htm#17-0000, divided by 70.4 percent for total employer costs for employee compensation, https://www.bls.gov/news.release/archives/ecec_03132024.pdf. Last Accessed August 12, 2024.

Table 7—Estimated Manufacturer Time Allocation by Claim Type and Weighted Hourly Rate
Claim type | Estimated time (in minutes) to review a claim: Lawyer (rate: $159.39) | Estimated time (in minutes) to review a claim: Engineer (rate: $74.66) | Estimated time (in minutes) to review a claim: Technical (rate: $53.44) | Estimated time (in minutes) to review a claim: Clerical (rate: $37.86) | Estimated time (in minutes) to review a claim: Total time | Weighted hourly rate
Incidents Involving Injury or Fatality in U.S | 3 | 0 | 0 | 2 | 5 | $110.78
Incidents Involving Fatality in Foreign Country | 3 | 10 | 0 | 2 | 15 | 86.70
Reports on Number of Claims Involving Specific System or Event | 0 | 0 | 3 | 2 | 5 | 47.21
Mfr. Field Reports | 0 | 0 | 3 | 2 | 5 | 47.21
Common Green Tire Reporting | 0 | 0 | 0 | 5 | 5 | 37.86
Average Number of Follow-Up Sequences per 579.28(l) | 3 | 10 | 0 | 2 | 15 | 86.70

These rates are calculated by summing the weighted employer costs for each employee position required to review each submission claim type using the formula:

The annual labor costs for submissions of claims data are shown in table 8. Labor Cost per Submission is the product of the Average Time to Process Each Report and the Weight Hourly Rate calculated in table 7. Annual labor cost is the product of the labor cost per submission and the average annual submissions.

Table 8—Estimated EWR Annual Labor Costs by Category
Category of claims | Annual average of EWR submissions | Average time to process each report | Weighted hourly rate | Estimated labor cost per submission | Estimated annual labor cost
Incidents Involving Injury or Fatality in U.S | 6,892 | 5 | $110.78 | $9.23 | $63,624.65.
Incidents Involving Fatality in Foreign Country | 41 | 15 | 86.70 | 21.68 | $888.68.
Reports on Number of Claims Involving Specific System or Event | 9,192 | 5 | 47.21 | 3.93 | $36,162.86.
Mfr. Field Reports | 106,406 | 5 | 47.21 | 3.93 | $418,618.94.
Common Green Tire Reporting | 99 | 5 | 37.86 | 3.16 | $312.35
Average Number of Follow-Up Sequences per 579.28(l) | 1,719 | 15 | 86.70 | 21.68 | $37,259.33.
Totals | 124,349 |  |  |  | $556,866.81 or $556,867.

The total annual manufacturer burden hours for subpart C reporting of EWR data (§§ 579.21 through 28) is calculated by summing the burden hour estimates for quarterly reporting in table 4 (3,664 hours) and submission reporting in table 6 (10,655 hours). This produces an EWR annual burden hour estimate of 14,319 hours. The total annual labor cost for subpart C reporting is calculated by summing the labor cost estimates in table 4 ($167,261.60) and table 8 ($556,866.81), producing a total annual labor cost estimate for subpart C reporting of $724,128.41 or $724,128.

Computer Maintenance Burden

In addition to the burden associated with submitting documents under each subpart of part 579, NHTSA also estimates that manufacturers will incur computer maintenance burden hours associated with the information collection requirements. The estimated manufacturer burden hours associated with aggregate data submissions for consumer complaints, warranty claims, and dealer field reports are included in reporting and computer maintenance hours. The burden hours for computer maintenance are calculated by multiplying the hours of computer use (for a given category) by the number of manufacturers reporting in a category. NHTSA estimates that light vehicle manufacturers will spend approximately 347 hours per year on computer maintenance and that other vehicle manufacturers will spend about 22 percent as much time as light vehicle manufacturers on computer maintenance. Therefore, NHTSA estimates that bus, emergency, and medium-heavy truck; motorcycle; and trailer manufacturers will each spend approximately 86.5 hours on computer maintenance each year. NHTSA estimates that child restraint and tire manufacturers will also spend 86.5 hours on computer maintenance per year. Therefore, NHTSA estimates the total burden for computer maintenance to be 33,863 hours per year (based on there being an estimated 41 light vehicle manufacturers; 54 bus, emergency, and medium-heavy vehicle manufacturers; 16 motorcycle manufacturers; 91 trailer manufacturers; 35 child restraint manufacturers; and 31 tire manufacturers). This burden estimation is an update from the 60-day notice due to corrections to the number of bus, emergency, and medium-heavy vehicle manufacturers reporting to NHTSA.

To calculate the labor cost associated with computer maintenance hours, NHTSA looked at wage estimates for the type of personnel submitting the documents. The ECEC adjusted average hourly wage for Computer Support Specialists (BLS Occupation code 15-1230) in the Motor Vehicle Manufacturing Industry is $53.44 as reviewed in the discussion of table 1 data in the subpart A reporting burden analysis. For the estimated total of 33,863 annual computer maintenance burden hours, NHTSA estimates the associated labor costs will be approximately $1,809,612 annually. Table 9 shows the annual estimated burden hours for computer maintenance by vehicle/equipment category and the estimated labor costs associated with those burden hours.

Table 9—Estimated Manufacturer Annual Burden Hours for Computer Maintenance for Reporting
Vehicle/equipment category | Average number of manufacturers | Hours for computer maintenance per manufacturer | Average hourly labor cost | Annual labor cost per manufacturer | Total annual burden hours | Total annual labor costs
Light Vehicles | 41 | 347 | $53.44 | $18,543.68 | 14,227 | $760,290.88
Bus, Emergency, and Medium-Heavy Vehicles | 54 | 86.5 | 53.44 | 4,622.56 | 4,671 | $249,618.24.
Motorcycles | 16 | 86.5 | 53.44 | 4,622.56 | 1,384 | $73,960.96.
Trailers | 91 | 86.5 | 53.44 | 4,622.56 | 7,872 | $420,652.96.
Child Restraints | 35 | 86.5 | 53.44 | 4,622.56 | 3,028 | $161,789.60.
Tires | 31 | 86.5 | 53.44 | 4,622.56 | 2,682 | $143,299.36.
Totals |  |  |  |  | 33,863 | $1,809,612.00 or $1,809,612.

Total Annual Burden Hours and Labor Costs Summary

Based on the foregoing, we estimate the burden hours for the industry to comply with the current part 579 reporting requirements (EWR requirements, foreign campaign requirements, and part 579.5 requirements) to be 51,327 hours per year. This a change from the 60-day notice estimates of 54,088 annual burden hours due to updates of estimation from the early warning reports and computer maintenance tables resulting from corrections in the number of bus, emergency, and medium-heavy vehicle manufacturers reporting each year. The total annual burden hours, labor costs, and changes from for this information collection consisting of manufacturer communications under § 579.5 (subpart A), foreign reporting (subpart B), EWR submissions and reporting (subpart C), and computer maintenance are outlined in table 10 below.

Table 10—Total Manufacturer Annual Burden Hours and Labor Costs
Reporting type | Currently approved part 579 information collection request: Annual burden hours | Currently approved part 579 information collection request: Annual labor costs | Pending part 579 information collection request: Annual burden hours | Pending part 579 information collection request: Annual labor costs | Changes in burden hours and labor costs: Annual burden hours | Changes in burden hours and labor costs: Annual labor costs
Subpart A: Manufacturer Communications § 579.5 (Table 1) | 2,074 | $92,817 | 1,468 | $78,387 | * (606) | * ($14,430)
Subpart B: Foreign Reporting (Tables 2 & 3) | 1,590 | 139,464 | 1,677 | 164,021 | 87 | 24,557
Subpart C: EWR Submissions and Quarterly Reporting (Tables 4 & 6/8) | 14,731 | 621,260 | 14,319 | 724,128 | * (412) | 102,868
Computer Maintenance (Table 9) | 35,415 | 1,585,861 | 33,863 | 1,809,612 | * (1,552) | 223,751.
Total | 53,810 | 2,439,402 | 51,327 | 2,776,148 | * (2,483) | 336,746
* Reduction from currently approved ICR.

The burden estimates show an overall decrease in annual burden hours of 2,483 hours and an increase in annual labor costs of $336,746 from the part 579 information collection request approved in April 2022. These represent a decrease of 4.6 percent in burden hours and an increase of 13.8 percent in labor costs. The changes in annual burden hours are due to changes in the number of submissions in tables 1, 2, and 6 and changes in the number of manufacturers reporting in each category in tables 4 and 9. Most of the decrease resulted from corrections in the number of manufacturers reporting subpart C information in the bus, emergency, and medium and heavy vehicle categories. The changes in annual labor costs are also affected by reductions in manufacturer counts and burden hours but are offset by increases in labor costs for the manufacturer employee positions required for reporting part 579 information. The wage estimates have been adjusted to reflect the latest available rates from the Bureau of Labor Statistics.

Estimated Total Annual Burden Cost: NHTSA estimates the collection requires no additional costs to the respondents beyond the labor costs associated with the burden hours to collect and submit the reports to NHTSA and the labor hours and associated labor costs for computer maintenance.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29A.

Eileen Sullivan,
Associate Administrator, Enforcement.

[FR Doc. 2025-02615 Filed 2-13-25; 8:45 am]

BILLING CODE 4910-59-P